DEPARTMENT OF HEALTH AND HUMAN SERVICES

Centers for Disease Control and Prevention

Requirement for Airlines To Collect Designated Information for Passengers Destined for the United States Who Are Departing From, or Were Otherwise Present in the Democratic Republic of the Congo or the Republic of Guinea

AGENCY: Centers for Disease Control and Prevention (CDC), Department of Health and Human Services (HHS).

ACTION: Notice.

SUMMARY: The Centers for Disease Control and Prevention (CDC), a component of the Department of Health and Human Services (HHS), announces the issuance of an Order requiring airlines and aircraft operators to collect designated information for passengers who are departing from, or were otherwise present in, the Democratic Republic of the Congo (DRC) or the Republic of Guinea (Guinea) within 21 days prior to their entry or attempted entry into the United States. This Order is based on the CDC Director's determination that such passengers are at risk of exposure to Ebola virus and that their accurate and complete contact information is needed to protect the health of fellow travelers and United States communities.

DATES: This Order takes effect beginning 11:59 p.m. Eastern Standard Time on March 4, 2021.

FOR FURTHER INFORMATION CONTACT: Jennifer Buigut, Division of Global Migration and Quarantine, Centers for Disease Control and Prevention, 1600 Clifton Road NE, MS H16-4, Atlanta, GA 30329. Email: dgmqpolicyoffice@cdc.gov.

SUPPLEMENTARY INFORMATION:

Background: There are currently outbreaks of Ebola Virus Disease (EVD) in DRC and Guinea. As of February 23, 2021, there were 8 cases of EVD in DRC and 9 in Guinea. Currently, a daily average of 27 travelers arrive in the United States each day from DRC and 33 from Guinea. A very small number (an average of between two and six) are neither United States citizens nor lawful permanent residents of the United States. Over 96% of travelers arriving from these countries enter the United States at one of six U.S. airports: Washington-Dulles International Airport (IAD), Virginia; John F. Kennedy International Airport (JFK), New York; Newark Liberty International Airport (EWR), New Jersey; Chicago O'Hare International Airport (ORD), Illinois; Atlanta Hartsfield-Jackson Atlanta International Airport (ATL), Georgia; and Los Angeles International Airport (LAX), California. Experience with previous EVD outbreaks (including the 2014-2016 EVD outbreak in West Africa) shows that EVD can spread quickly between close contacts and within healthcare settings, often with high case-fatality rates, and with substantial disruption and strain on healthcare services and broader socioeconomic impacts. While information continues to be gathered regarding these most recent EVD cases, there is potential for spread within the affected countries and to surrounding countries in both West Africa and Central/East Africa.

Because air travel has the potential to transport people, some of whom may have been exposed to a communicable disease, anywhere across the globe in less than 24 hours, CDC considers it essential that U.S. public health authorities have access to information necessary to follow up with travelers arriving from countries with EVD outbreaks, as needed, including for health education, risk assessment, and symptom monitoring. U.S. state, local, and territorial health departments have the authority to implement and manage public health follow-up, including monitoring, conducted within their jurisdictions. Health departments may elect to assume direct responsibility for monitoring or accept monitoring by a sponsoring organization (e.g., if the individual was deployed overseas by a private company).¹

¹ https://wwwnc.cdc.gov/travel/page/recs-organizations-sending-workers-ebola

Timely public health follow-up requires health officials to have immediate access to accurate and complete contact information for passengers as they arrive in the United States. Inaccurate or incomplete contact information hampers the ability of public health authorities to protect the health of passengers and the public. The best way to ensure airline passengers' contact information is available in real time is to collect the information before they board a flight. CDC has identified the minimum amount of information needed to locate passengers reliably after they arrive in the United States: Full name, address while in the United States, primary contact phone number, secondary or emergency contact phone number, and email address.

A copy of the Order is provided below and a copy of the signed Order can be found at https://www.cdc.gov/quarantine/order-passengers-departing-congo.html.

Order of the Centers for Disease Control and Prevention, Department of Health and Human Services, Requirement for Airlines to Collect Designated Information for Passengers Destined for the United States who Are Departing From, or Were Otherwise Present in, the Democratic Republic of the Congo or the Republic of Guinea

Under 42 CFR 71.4, 71.20, 71.31, and 71.32 as Authorized by 42 U.S.C. 264 and 268

Attention:

• All airlines and aircraft operators conducting any passenger-carrying operation destined for the United States transporting passengers who are departing from or were otherwise present in the Democratic Republic of the Congo (DRC) or the Republic of Guinea (Guinea) within 21 days of the date of the person's entry or attempted entry into the United States; and

• All air passengers destined for the United States who are departing from or were otherwise present in the DRC or Guinea within the previous 21 days of the date of the person's entry or attempted entry into the United States.

The Director of the Centers for Disease Control and Prevention (CDC) (Director) has issued an order (Order) under 42 CFR 71.4, 71.20, 71.31 and 71.32. This Order, as detailed below, requires all passengers destined for the United States who are departing from, or were otherwise present in, DRC or Guinea within the previous 21 days to provide designated contact information, as further described herein, to the airline or aircraft operator, so this information can be provided by the airline or aircraft operator, as required by this Order, to the United States Government. The collection of this information will begin for flights departing after 11:59 p.m. Eastern Standard Time on March 4, 2021.

In taking this action, the CDC Director has requested the assistance of U.S. Customs and Border Protection (CBP) in the Department of Homeland Security (DHS), which aids in the enforcement of quarantine rules and regulations pursuant to 42 U.S.C. 268 by collecting, storing, managing, and processing designated contact information and making it available to CDC when the Director has determined that travelers may have been exposed to Ebola Virus Disease (EVD). Additionally, CBP has issued an Order, in accordance with CBP statutory authority, to direct all operators of aircraft to ensure that all flights carrying persons who have recently traveled from, or were otherwise present within, the DRC or the Republic of Guinea only arrive at one of the following airports: John F. Kennedy International Airport (JFK), New York; Chicago O'Hare International Airport (ORD), Illinois; Hartsfield-Jackson Atlanta International Airport (ATL), Georgia; Washington-Dulles International Airport (IAD), Virginia; Newark Liberty International Airport (EWR), New Jersey; and Los Angeles International Airport (LAX), California, where the United States government may focus public health resources to implement enhanced public health measures. In keeping with current practice, CDC will work closely with CBP to ensure that the information collection by the airline or aircraft operator required by this Order is not duplicated upon passengers' arrival. CDC will use this information for the purposes of public health follow-up, such as health education, risk assessment, and symptom monitoring or other appropriate public health interventions, including travel restrictions when indicated.²

² Privacy Act System Notice 09-20-0171: https://www.cdc.gov/SORNnotice/09-20-0171.htm.

Determination:

There are currently outbreaks of EVD in DRC and Guinea. As of February 23, 2021, there were 8 cases of EVD in DRC and 9 in Guinea. Currently, according to CBP, a daily average of 27 travelers arrive in the United States each day from DRC and 33 from Guinea. A very small number (an average of between two and six per day) are neither United States citizens nor lawful permanent residents of the United States. Over 96% of travelers arriving from these countries enter the United States at one of six U.S. airports: Washington-Dulles International Airport (IAD), Virginia; John F. Kennedy International Airport (JFK), New York; Newark Liberty International Airport (EWR), New Jersey; Chicago O'Hare International Airport (ORD), Illinois; Atlanta Hartsfield-Jackson Atlanta International Airport (ATL), Georgia; and Los Angeles International Airport (LAX), California. Experience with previous EVD outbreaks (including the 2014-2016 EVD outbreak in West Africa) shows that EVD can spread quickly between close contacts and within healthcare settings, often with high case fatality rates, and with substantial disruption and strain on healthcare services and broader socioeconomic impacts. While information continues to be gathered regarding these most recent EVD cases, there is potential for spread within the affected countries and to surrounding countries in both West Africa and Central/East Africa.

Air travel has the potential to transport people, some of whom may have been exposed to a communicable disease, anywhere across the globe in less than 24 hours. CDC considers it essential that U.S. public health authorities have access to information necessary to follow up with travelers arriving from countries with EVD outbreaks, as needed, including for health education, risk assessment, and symptom monitoring. U.S. state, local, tribal, and territorial health departments have the authority to implement and manage public health follow-up, including monitoring, conducted within their jurisdictions. Health departments may elect to assume direct responsibility for monitoring or accept monitoring by a sponsoring organization (e.g., if the individual was deployed overseas by a private company).³

³ https://wwwnc.cdc.gov/travel/page/recs-organizations-sending-workers-ebola

Timely public health follow-up requires health officials to have immediate access to accurate and complete contact information for passengers as they arrive in the United States. Inaccurate or incomplete contact information hampers the ability of public health authorities to protect the health of passengers and the public. The best way to ensure airline passengers' contact information is available in real time is to collect the information before they board a flight. CDC has identified the minimum amount of information needed to locate passengers reliably after they arrive in the United States: Full name, address while in the United States, primary contact phone number, secondary or emergency contact phone number, and email address.

For these reasons, I hereby determine that all travelers destined for the United States who are departing from, or were otherwise present in, DRC or Guinea within 21 days prior to their entry or attempted entry into the United States are at risk of exposure to EVD and that their accurate and complete contact information is needed to protect the health of fellow travlers and U.S. communities.

Directive:

Definitions.—In this Order—

1. the term `airline' has the same meaning as in 42 CFR 71.1(b).

2. the term `aircraft' has the same meaning as in 42 CFR 71.1(b) and 49 U.S.C. 40102(a)(6).

3. the term `United States' has the same meaning as in 42 CFR 71.1(b).

4. the term `communicable disease' has the same meaning as in 42 CFR 71.1(b).

5. the term `designated information' consists of the following five data elements, to the extent that they exist, and any additional data elements that CDC, in consultation with CBP, determines are necessary to accommodate the means of transmission chosen by the airline or aircraft operator in section 1(b) or 2(b) of this Order below as provided by the passenger:

(A) Full name (last, first, and, if available, middle or suffix (e.g., Jr.));

(B) Address while in the United States (number and street, city, State or territory, and zip code). If a United States citizen or lawful permanent resident, provide address of permanent residence in the United States or territory (number and street, city, State or territory, and zip code);

(C) Primary contact phone number to include country and area code, at which the passenger can be contacted while in the United States;

(D) Secondary contact phone number to include country and area code, which may be an emergency contact number, a work number, or a home number; and

(E) Email address that the passenger will routinely check while in the United States.

6. the term `scheduled operation' means any common carriage passenger-carrying operation for compensation or hire conducted by an airline or commercial operator for which the airline or its representative offers in advance the departure location, departure time, and arrival location. For the purposes of this Order, this includes any passenger carrying operation under 14 CFR part 380.

In accordance with 42 CFR 71.4, 71.20, 71.31, and 71.32, as authorized by 42 U.S.C. 264 and 268, it is hereby ordered:

1. This section applies to all scheduled operations conducted under 14 CFR part 121, part 129, or part 380, or public charter operations conducted under part 135 using aircraft with ten or more seats, regardless of the number of passengers on the flight. Beginning 11:59 p.m. Eastern Standard Time on March 4, 2021, for each passenger flight transporting passengers destined for the United States from international last points of departure who are departing from, or were otherwise present in, DRC or Guinea within 21 days prior to their entry or attempted entry into the United States, all airlines or aircraft operators shall—

(a) Collect, before boarding, the designated information for all passengers who are departing from, or were otherwise present in, DRC or Guinea within 21 days prior to their entry or attempted entry into the United States. When collecting the designated information, airlines or aircraft operators shall notify passengers that the obligation to provide the information is a United States Government requirement.

(b) Transmit the designated passenger information to CBP through one of the following means:

i. Through the airline's advance passenger information transmission; or

ii. Through an industry-proposed, alternative compliance method meeting minimum standards deemed acceptable to CDC in consultation with CBP, e.g., JSON messaging or PNRGOV.

(c) For all crew members, upon request from the CDC Director, transmit the designated information through encrypted email or other means approved by CDC within 24 hours.

CDC or CBP may issue additional operational guidance to aircraft operators regarding the collection and transmission of the designated information, including for those who are unable submit data in the manner specified or to meet the deadline of technical compliance.

Any airline that fails to comply with section 1 may be subject to criminal penalties under, inter alia, 42 U.S.C. 271 and 42 CFR 71.2, in conjunction with 18 U.S.C. 3559 and 3571.

2. This section applies to all other aircraft operators not covered in section 1 above. Beginning 11:59 p.m. Eastern Standard Time on March 4, 2021, for each passenger flight transporting passengers destined for the United States from international last points of departure who have been in DRC or Guinea within 21 days prior to the date of entry or attempted entry into the United States, all airlines or aircraft operators shall —

(a) Collect the designated information for all passengers who are departing from, or were otherwise present in, DRC or Guinea within the 21 days prior to their entry or attempted entry into the United States. When collecting the designated information, aircraft operators shall notify passengers that the obligation to provide the information is a United States Government requirement.

(b) Transmit the designated passenger information to CBP or CDC through one of the following means:

(1) Electronic Advance Passenger Information System; ⁴ or

⁴ https://www.cbp.gov/travel/travel-industry-personnel/apis/eapis-transmission-system

(2) Other means meeting minimum standards deemed acceptable to CDC in consultation with CBP.

(c) For all crew members, upon request from the CDC Director, transmit the designated information through encrypted email or other means approved by CDC within 24 hours.

CDC or CBP may issue additional operational guidance to aircraft operators regarding the collection and transmission of the designated information, including for those who are unable submit data in the manner specified or to meet the deadline of technical compliance.

Any entities covered under section 2 that fail to comply with section 2 may be subject to criminal penalties under, inter alia, 42 U.S.C. 271 and 42 CFR 71.2, in conjunction with 18 U.S.C. 3559 and 3571.

3. Requirements for Passengers:

Beginning 11:59 p.m. Eastern Standard Time on March 4, 2021, any passenger destined for the United States on a flight covered under sections 1 or 2 who is departing from, or was otherwise present in, DRC or Guinea within 21 days prior to entry, or attempted entry, into the United States shall provide the designated information, as instructed by the airline or aircraft operator, insofar as the information exists for the passenger.

Authorized representatives (for example, immediate family member, legal guardian, or travel agent) may provide the designated information on behalf of passengers, including on behalf of minors or other passengers who are unable to do so on their own behalf), but the information must be specific to the individual passenger (e.g.agents may not put one number for an entire group of unrelated persons).

Any passenger who fails to comply with the requirements of section 3 may be subject to criminal penalties under, inter alia, 42 U.S.C. 271 and 42 CFR 71.2, in conjunction with 18 U.S.C. 3559 and 3571.

CDC and CBP will maintain the designated information within their respective systems in accordance with Federal law, including the Privacy Act of 1974 (5 U.S.C. 552a). Identifiable information may be used and shared only for lawful purposes, including with authorized personnel of the United States Department of Health and Human Services; the United States Department of Homeland Security; state, local, tribal, and territorial public health departments; and other cooperating authorities, as authorized by law. CDC and CBP will retain, use, delete, or otherwise destroy the designated information in accordance with the Federal Records Act, applicable Privacy Act System of Records Notices, and other applicable law.

CDC may modify this Order by an updated publication in the Federal Register or by posting an advisory to follow at www.cdc.gov.

Authority

The CDC Director is issuing this Order pursuant to Sections 361 and 365 of the Public Health Service (PHS) Act, 42 U.S.C. 264 and 268, and implementing regulations at 42 CFR 71.4, 71.20, 71.31, and 71.32.

Dated: March 2, 2021.
Sherri Berger,
Acting Chief of Staff, Centers for Disease Control and Prevention.

[FR Doc. 2021-04625 Filed 3-2-21; 4:15 pm]

BILLING CODE 4163-18-P